ENVIRONMENTAL PROTECTION AGENCY

[FRL-9987-88-Region 5]

Re-Establishment of the Great Lakes Advisory Board

AGENCY: Environmental Protection Agency (EPA).

ACTION: Notice of re-establishment of Great Lakes Advisory Board.

SUMMARY: The Environmental Protection Agency (EPA) is announcing the re-establishment of the Great Lakes Advisory Board (GLAB).

FOR FURTHER INFORMATION CONTACT: Edlynzia Barnes, Designated Federal Officer (DFO), Great Lakes National Program Office, Environmental Protection Agency, 77 W Jackson Boulevard, Chicago, IL; telephone number: 312-886-6249; email address: Barnes.Edlynzia@epa.gov.

SUPPLEMENTARY INFORMATION: The GLAB is being re-established in accordance with the Federal Advisory Committee Act FACA) of 1972 (5 U.S.C., Appendix 2, as amended) and 41 CFR 102-3.50(d). The Advisory Board will provide advice and recommendations on matters related to the Great Lakes Restoration Initiative. The Advisory Board will also advise on domestic matters related to implementation of the Great Lakes Water Quality Agreement between the U.S. and Canada.

The major objectives will be to provide advice and recommendations on:

a. Great Lakes protection and restoration activities.

b. Long term goals, objectives, and priorities for Great Lakes protection and restoration.

c. Other issues identified by the Great Lakes Interagency Task Force/Regional Working Group.

EPA has determined that this federal advisory committee is in the public interest and will assist the EPA in performing its duties and responsibilities. Copies of the GLAB's charter will be filed with the appropriate congressional committees and the Library of Congress.

The GLAB expects to meet in person or by electronic means (e.g., telephone, videoconference, webcast, etc.) approximately two (2) times per year, or as needed and approved by the Designated Federal Officer (DFO). Meetings will be held in the Great Lakes region.

Membership: The GLAB will be composed of approximately fifteen (15) members who will generally serve as representative members of non-federal interests. Nominations for membership will be solicited through the Federal Register and other sources. In selecting members, EPA will consider candidates representing a broad range of interests relating to the Great Lakes, including, but not limited to, environmental groups, industry, business groups, agricultural groups, citizen groups, environmental justice groups, foundations, academia and state, local and tribal governments. In selecting members, EPA will consider the differing perspectives and breadth of collective experience needed to address the EPA's charge.

Dated: December 3, 2018.
Cathy Stepp,
Regional Administrator, Great Lakes National Program Manager.

[FR Doc. 2018-27050 Filed 12-12-18; 8:45 am]

BILLING CODE 6560-50-P